OFFICE OF MANAGEMENT AND BUDGET

Audits of States, Local Governments, and Non-Profit Organizations; Circular A-133 Compliance Supplement

AGENCY: Executive Office of the President, Office of Management and Budget.

ACTION: Notice of availability of the 2009 Circular A-133 Compliance Supplement.

SUMMARY: This notice announces the availability of the 2009 Circular A-133 Compliance Supplement. The notice also offers interested parties an opportunity to comment on the 2009 Circular A-133 Compliance Supplement. The 2009 Supplement adds four programs, including one program added to an existing cluster, and a new cross cutting section. It deletes six programs and has also been updated for program changes and technical corrections. In total, the 2009 Compliance Supplement includes 176 individual programs. A list of changes to the 2009 Supplement can be found at Appendix V. It has a new Appendix VII that provides an audit alert regarding the grant programs funded under American Recovery and Reinvestment Act of 2009 and a summary report of common audit deficiencies disclosed in the Report on the National Single Audit Sampling Project (published in June 2007). Due to its length, the 2009 Supplement is not included in this Notice. See ADDRESSES for information about how to obtain a copy.

DATES: The 2009 Supplement will apply to audits of fiscal years beginning after June 30, 2008 and supersedes the 2008 Supplement. All comments on the 2009 Supplement must be in writing and received by October 31, 2009. Late comments will be considered to the extent practicable.

Due to potential delays in OMB's receipt and processing of mail sent through the U.S. Postal Service, we encourage respondents to submit comments electronically to ensure timely receipt. We cannot guarantee that comments mailed will be received before the comment closing date.

Electronic mail comments may be submitted to: Hai_M._Tran@omb.eop.gov. Please include “A-133 Compliance Supplement—2009” in the subject line and the full body of your comments in the text of the electronic message and as an attachment. Please include your name, title, organization, postal address, telephone number, and e-mail address in the text of the message. Comments may also be submitted via facsimile at 202-395-3952.

Comments may be mailed to Gilbert Tran, Office of Federal Financial Management, Office of Management and Budget, 725 17th Street, NW., Room 6025, New Executive Office Building, Washington, DC 20503.

Comments may also be sent to via http://www.regulations.gov—a Federal E-Government website that allows the public to find, review, and submit comments on documents that agencies have published in the Federal Register and that are open for comment. Simply type “A-133 Compliance Supplement—2009” (in quotes) in the Comment or Submission search box, click Go, and follow the instructions for submitting comments. Comments received by the date specified above will be included as part of the official record.

ADDRESSES: The 2009 Supplement is available on-line under the Management heading from the OMB home page (Grants Management/Circulars subpage) on the Internet at http://www.whitehouse.gov/omb.

Hard copies of the 2009 Supplement may be purchased at any Government Printing Office (GPO) bookstore (stock number: 041-001-00667-2). The main GPO bookstore is located at 710 North Capitol Street, NW., Washington, DC 20401, (202) 512-0132.

FOR FURTHER INFORMATION CONTACT: Recipients should contact their cognizant or oversight agency for audit, or Federal awarding agency, as appropriate under the circumstances. Subrecipients should contact their pass-through entity. Federal agencies should contact Gilbert Tran, Office of Management and Budget, Office of Federal Financial Management, at (202) 395-3052.

Danny Werfel,
Deputy Controller.

[FR Doc. E9-12495 Filed 5-28-09; 8:45 am]

BILLING CODE;P